DEPARTMENT OF ENERGY

Federal Energy Regulatory Commission

[Docket No. CP07-367-000]

Columbia Gas Transmission Corporation; Notice of Application

May 16, 2007.

Take notice that on May 3, 2007, Columbia Gas Transmission Corporation (Columbia), 1700 MacCorkle Avenue, SE., Charleston, West Virginia 25314, filed an application in Docket No. CP07-367-000, pursuant to sections 7(b) and 7(c) of the Natural Gas Act for a certificate of public convenience and necessity authorizing it to construct and operate facilities located in Ohio, West Virginia, and Virginia, for its Eastern Market Expansion (EME) Project. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

As part of the EME project, Columbia is seeking authorization to construct approximately 15.26 miles of pipeline, drill 9 new wells and recondition 14 existing wells at the Crawford, Coco A, and Coco C storage fields, install 12,280 horsepower at the Lanham, Lost River, and Seneca compressor stations, and upgrade various existing delivery points. When completed, the facilities will allow Columbia to provide up to 97,050 Dth per day of firm storage service, all as more fully set forth in the application which is on file with the Commission and open for public inspection. Columbia, also, proposes to accelerate replacement and reliability facility construction originally scheduled to occur within 5 years at the three compressor sites. This construction will involve replacing 22,460 horsepower of existing compressor facilities, and be done at the same time as the EME units are installed.

Any questions regarding this Application should be directed to Fredric K. George, Lead Counsel, Columbia Gas Transmission Corporation, P.O. Box 1273, Charleston, West Virginia 25325-1273 at (304) 357-2359 or by fax at (304) 357-3206.

On September 25, 2006, the Commission staff granted Columbia's request to utilize the Commission's Pre-Filing Process and assigned Docket No. PF06-35-000 to staff activities involving Columbia's EME project. Now, as of the filing of Columbia's application on May 3, 2007, the Pre-Filing Process for this project has ended. From this time forward, Columbia's proceeding will be conducted in Docket No. CP07-367-000, as noted in the caption of this Notice.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: June 6, 2007.

Kimberly D. Bose,
Secretary.

[FR Doc. E7-11735 Filed 6-18-07; 8:45 am]

BILLING CODE 6717-01-P